DEPARTMENT OF ENERGY

Federal Energy Regulatory Commission

Combined Notice of Filings #1

Take notice that the Commission received the following electric corporate filings:

Docket Numbers: EC16-173-000.

Applicants: The Dayton Power and Light Company, AES Ohio Generation, LLC.

Description: Response of The Dayton Power and Light Company and AES Ohio Generation, LLC to Deficiency Letter of Nov. 8, 2016.

Filed Date: 12/1/16.

Accession Number: 20161201-5241.

Comments Due: 5 p.m. ET 12/22/16.

Docket Numbers: EC17-41-000.

Applicants: American Falls Solar, LLC, American Falls Solar II, LLC.

Description: Application of American Falls Solar, LLC and American Falls Solar, II LLC, for Authorization under Section 203 of the Federal Power Act and Requests for Confidential Treatment, Expedited Consideration, and Waivers.

Filed Date: 12/1/16.

Accession Number: 20161201-5423.

Comments Due: 5 p.m. ET 12/22/16.

Take notice that the Commission received the following electric rate filings:

Docket Numbers: ER16-1213-002.

Applicants: New York Independent System Operator, Inc.

Description: Compliance filing: Amendment to BTM:NG compliance filing to be effective 12/13/2016.

Filed Date: 12/1/16.

Accession Number: 20161201-5404.

Comments Due: 5 p.m. ET 12/22/16.

Docket Numbers: ER17-213-001.

Applicants: Midcontinent Independent System Operator, Inc.

Description: Tariff Amendment: 2016-12-01_Amendment to Module D Clean-up filing to be effective 12/28/2016.

Filed Date: 12/1/16.

Accession Number: 20161201-5350.

Comments Due: 5 p.m. ET 12/22/16.

Docket Numbers: ER17-246-001.

Applicants: Dynegy Oakland, LLC.

Description: Tariff Amendment: Deferral of Commission Action to Permit Ongoing Settlement Discussions to be effective 12/31/9998.

Filed Date: 12/2/16.

Accession Number: 20161202-5126.

Comments Due: 5 p.m. ET 12/23/16.

Docket Numbers: ER17-428-000.

Applicants: Southwest Power Pool, Inc.

Description: Offer of Settlement of Southwest Power Pool, Inc., on behalf of Missouri River Energy Services and member Vermillion Light & Power.

Filed Date: 12/1/16.

Accession Number: 20161201-5430.

Comments Due: 5 p.m. ET 12/21/16.

Docket Numbers: ER17-436-001; ER17-437-001; ER11-4634-002.

Applicants: Marcus Hook Energy, L.P., Marcus Hook 50, L.P., Hazleton Generation LLC.

Description: Notice of Change in Status of Marcus Hook Energy, L.P., et al.

Filed Date: 12/1/16.

Accession Number: 20161201-5437.

Comments Due: 5 p.m. ET 12/22/16.

Docket Numbers: ER17-466-000.

Applicants: Louisville Gas and Electric Company.

Description: § 205(d) Rate Filing: EKPC NITSA Amendments to be effective 12/1/2016.

Filed Date: 12/1/16.

Accession Number: 20161201-5364.

Comments Due: 5 p.m. ET 12/22/16.

Docket Numbers: ER17-467-000.

Applicants: New York Independent System Operator, Inc., Consolidated Edison Company of New York.

Description: § 205(d) Rate Filing: 205 filing re: LGIA (SA 2310) among the NYISO, Con Edison, and Cricket Valley to be effective 11/16/2016.

Filed Date: 12/1/16.

Accession Number: 20161201-5365.

Comments Due: 5 p.m. ET 12/22/16.

Docket Numbers: ER17-468-000.

Applicants: Ohio Valley Electric Corporation.

Description: Compliance filing: Amendment to Attachments J, K and P Tariff Records to be effective 10/14/2016.

Filed Date: 12/1/16.

Accession Number: 20161201-5389.

Comments Due: 5 p.m. ET 12/22/16.

Docket Numbers: ER17-469-000.

Applicants: Southwest Power Pool, Inc.

Description: § 205(d) Rate Filing: Midwest Energy Formula Rate Revisions to be effective 1/1/2017.

Filed Date: 12/1/16.

Accession Number: 20161201-5402.

Comments Due: 5 p.m. ET 12/22/16.

Docket Numbers: ER17-470-000.

Applicants: San Diego Gas & Electric Company.

Description: Fourth Annual Informational Filing [Cycle 4] of Fourth Transmission Owner Rate Formula rate mechanism of San Diego Gas & Electric Company.

Filed Date: 12/1/16.

Accession Number: 20161201-5434.

Comments Due: 5 p.m. ET 12/22/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2016.
Nathaniel J. Davis, Sr.,
Deputy Secretary.

[FR Doc. 2016-29421 Filed 12-7-16; 8:45 am]

BILLING CODE 6717-01-P